DEPARTMENT OF ENERGY

Federal Energy Regulatory Commission

Combined Notice of Filings #1

Take notice that the Commission received the following electric corporate filings:

Docket Numbers: EC15-122-000.

Applicants: AIA Energy North America LLC, Cross-Sound Cable Company, LLC.

Description: Application for Authorization Under Section 203 of the Federal Power Act and Request for Expedited Action and Privileged and Confidential Treatment of AIA Energy North America LLC, et al.

Filed Date: 4/15/15.

Accession Number: 20150415-5333.

Comments Due: 5 p.m. ET 5/6/15.

Docket Numbers: EC15-123-000.

Applicants: Alta Wind X, LLC, Alta Wind XI, LLC.

Description: Joint Application for Authorization under Section 203 of the Federal Power Act and Request for Expedited Action of Alta Wind X, LLC, et al.

Filed Date: 4/16/15.

Accession Number: 20150416-5199.

Comments Due: 5 p.m. ET 5/7/15.

Take notice that the Commission received the following electric rate filings:

Docket Numbers: ER15-359-003.

Applicants: Samchully Power & Utilities 1 LLC.

Description: Notice of Non-Material Change in Status of Samchully Power & Utilities 1 LLC.

Filed Date: 4/16/15.

Accession Number: 20150416-5125.

Comments Due: 5 p.m. ET 5/7/15.

Docket Numbers: ER15-760-001.

Applicants: Western Antelope Blue Sky Ranch A LLC.

Description: Supplement to December 30, 2014 and February 19, 2015 Western Antelope Blue Sky Ranch A LLC tariff filings.

Filed Date: 4/16/15.

Accession Number: 20150416-5120.

Comments Due: 5 p.m. ET 5/7/15.

Docket Numbers: ER15-762-001.

Applicants: Sierra Solar Greenworks LLC.

Description: Supplement to December 30, 2014 and February 19, 2015 Sierra Solar Greenworks LLC tariff filings.

Filed Date: 4/16/15.

Accession Number: 20150416-5195.

Comments Due: 5 p.m. ET 5/7/15.

Docket Numbers: ER15-1515-000.

Applicants: PJM Interconnection, L.L.C., Commonwealth Edison Company.

Description: § 205(d) rate filing per 35.13(a)(2)(iii): ComEd submits ministerial revisions to OATT Attachment H-13A to be effective 6/1/2015.

Filed Date: 4/15/15.

Accession Number: 20150415-5285.

Comments Due: 5 p.m. ET 5/6/15.

Docket Numbers: ER15-1517-000.

Applicants: PJM Interconnection, L.L.C.

Description: Tariff Withdrawal per 35.15: Notice of Cancellation of Original Service Agreement No. 3687; Queue No. Y3-027 to be effective 2/18/2015.

Filed Date: 4/16/15.

Accession Number: 20150416-5160.

Comments Due: 5 p.m. ET 5/7/15.

Docket Numbers: ER15-1518-000.

Applicants: ITC Midwest LLC.

Description: § 205(d) rate filing per 35.13(a)(2)(iii): Joint Use Pole Agreement with Guthrie County REC to be effective 6/15/2015.

Filed Date: 4/16/15.

Accession Number: 20150416-5182.

Comments Due: 5 p.m. ET 5/7/15.

Docket Numbers: ER15-1519-000.

Applicants: Catalina Solar Lessee, LLC, Catalina Solar 2, LLC, Pacific Wind Lessee, LLC.

Description: § 205(d) rate filing per 35.13(a)(2)(iii): Revised Shared Transmission Facilities Agreement of Pacific Wind Lessee et al. to be effective 5/31/2015.

Filed Date: 4/16/15.

Accession Number: 20150416-5203.

Comments Due: 5 p.m. ET 5/7/15.

Take notice that the Commission received the following PURPA 210(m)(3) filings:

Docket Numbers: QM15-3-000.

Applicants: Arkansas Electric Cooperative Corp.

Description: Application of Arkansas Electric Cooperative Corporation on Behalf of Itself and Its Members to Terminate Mandatory PURPA Purchase Obligation in the Midcontinent Independent System Operator, Inc.

Filed Date: 4/15/15.

Accession Number: 20150415-5324.

Comments Due: 5 p.m. ET 5/13/15.

Docket Numbers: QM15-4-000.

Applicants: Arkansas Electric Cooperative Corp.

Description: Application of Arkansas Electric Cooperative Corporation on Behalf of Itself and Its Members to Terminate Mandatory PURPA Purchase Obligation in the Southwest Power Pool, Inc.

Filed Date: 4/15/15.

Accession Number: 20150415-5328.

Comments Due: 5 p.m. ET 5/13/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 16, 2015.
Nathaniel J. Davis, Sr.,
Deputy Secretary.

[FR Doc. 2015-09470 Filed 4-22-15; 8:45 am]

BILLING CODE 6717-01-P